DEPARTMENT OF ENERGY

Federal Energy Regulatory Commission

[Project No. 14692-001]

Moriah Hydro Corporation; Notice of Comment Period Extension

On January 8, 2019, the Commission issued a notice setting March 9, 2019, as the end of the formal period to file comments on the preliminary permit application for the Lyon Mountain Energy Storage Project No. 14692. Due to the funding lapse at certain federal agencies between December 22, 2018 and January 25, 2019, the Commission is extending the comment period until March 26, 2019.

Dated: February 8, 2019.
Kimberly D. Bose,
Secretary.

[FR Doc. 2019-02333 Filed 2-13-19; 8:45 am]

BILLING CODE 6717-01-P